DEPARTMENT OF ENERGY

Federal Energy Regulatory Commission

[Docket No. ES01-13-000]

Midwest Independent Transmission System Operator; Notice of Application

December 22, 2000.

Take notice that on December 15, 2000, the Midwest Independent Transmission System Operator submitted an application pursuant to section 204 of the Federal Power Act seeking authorization to issue long-term senior notes in an amount not to exceed $100 million.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 12, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-33320 Filed 12-28-00; 8:45 am]

BILLING CODE 6717-01-M